DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held December 7-9, 2004 starting at 9 a.m.

ADDRESSES: The meeting will be held at Embassy Suites, 2577 West Greenway Road, Phoenix, AZ 85023.

FOR FURTHER INFORMATION CONTACT: RTCA Secretariat, 1828 L St., NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 meeting. The agenda will include:

• December 7:

—Operations, Requirements and Surveillance Working Group Meetings

• December 8:

—Operations, Requirements and Surveillance Working Group Meetings continued

• December 9:

—Opening Session (Welcome and Introductory Remarks, Review/Approve Summary of Previous Meeting, Review of Open Action Items)

—SC-147 Activity Reports

—Operations Working Group

—Requirement Working Group

—Surveillance Working Group

• Closing Session (Date and Place of Next Meeting, Other Business, Review Action Items/Work Program, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 3, 2004.
Natalie Olgetree,
FAA General Engineer, RTCA Advisory Committee.

[FR Doc. 04-25212 Filed 11-10-04; 8:45 am]

BILLING CODE 4910-13-M